FEDERAL COMMUNICATIONS COMMISSION

47 CFR Part 73

[DA 25-236; MB Docket No. 25-135; FR ID 285967]

Radio Broadcasting Services; Matador, Texas

AGENCY: Federal Communications Commission.

ACTION: Proposed rule.

SUMMARY: This document requests comments on the proposal to amend the Table of FM Allotments, by substituting Channel 276C2 for vacant Channel 244C2 and Channel 252C3 for vacant Channel 276C3 at Matador, Texas. Channel 244C2 at Matador is not in compliance with the minimum distance separation requirements of the Federal Communications Commission (Commission) rules, because it is short-spaced to licensed FM station KYLB, Channel 244A, Turkey, Texas. Channel 276C2 can be allotted to Matador consistent with the minimum distance separation requirements of the Commission's rules, with a site restriction of 27 kilometers (16.8 miles) west of the community at reference coordinates 33-56-19 NL and 101-06-08 WL. Channel 252C3 can be allotted to Matador consistent with the minimum distance separation requirements of the Commission's rules, with a site restriction of 12 kilometers (7.5 miles) southeast of the community at reference coordinates 33-57-50 NL and 100-42-07 WL.

DATES: Comments must be filed on or before May 2, 2025, and reply comments on or before May 19, 2025.

ADDRESSES: Secretary, Federal Communications Commission, 45 L Street NE, Washington, DC 20554.

FOR FURTHER INFORMATION CONTACT: Rolanda F. Smith, Media Bureau, (202) 418-2054, Rolanda-Faye.Smith@fcc.gov.

SUPPLEMENTARY INFORMATION: This is a synopsis of the Commission's Notice of Proposed Rule Making, MB Docket No. 25-135, adopted March 18, 2025, and released March 18, 2025. The full text of the Commission decision is available online at https://www.fcc.gov/ecfs. The full text of this decision can also be downloaded in Word or Portable Document Format (PDF) at https://www.fcc.gov/edocs. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will publish the required summary of this notice of proposed rulemaking on https://www.fcc.gov/proposed-rulemakings, pursuant to The Providing Accountability Through Transparency Act, see 5 U.S.C. 553(b)(4).

Provisions of the Regulatory Flexibility Act of l980 do not apply to this proceeding.

Members of the public should note that from the time a notice of proposed rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.202, amend table 1 to paragraph (b) under Texas by revising the entry for “Matador” to read as follows:

§ 73.202 Table of Allotments.

* * * * *

(b) * * *

Table 1 to Paragraph (b)
[U.S. States]
| Channel No.
* * * * *
Texas
* * * * *
Matador | 252C3, 276C2
* * * * *

[FR Doc. 2025-05104 Filed 3-25-25; 8:45 am]

BILLING CODE 6712-01-P